FEDERAL RESERVE SYSTEM

Formations of, Acquisitions by, and Mergers of Bank Holding Companies; Correction

In the Federal Register of January 8, 2026, FR Doc. 2026-00148, the notice “Formations of, Acquisitions by, and Mergers of Bank Holding Companies” by the Federal Reserve Bank of Atlanta is corrected with respect to the application by CBS Banc-Corp., Russellville, Alabama, for the title to read “Notice of Proposals to Engage in or to Acquire Companies Engaged in Permissible Nonbanking Activities”, and for the first two paragraphs to read:

“The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the question whether the proposal complies with the standards of section 4 of the BHC Act.”

The final paragraph is corrected to read “CBS Banc-Corp., Russellville, Alabama; to acquire TAG Bancshares Inc. and thereby indirectly acquire Citizens Bank & Trust, Inc., both of Trenton, Georgia, and thereby engage in operating a savings association pursuant to section 225.28(b)(4)(ii) of the Board's Regulation Y.”

The comment period continues to end on February 9, 2026. Interested persons may continue to view the notice and submit comments as provided in 91 FR 712 (January 8, 2026) no later than February 9, 2026.

Board of Governors of the Federal Reserve System.
Michele Taylor Fennell,
Associate Secretary of the Board.

[FR Doc. 2026-01905 Filed 1-29-26; 8:45 am]

BILLING CODE P